DEPARTMENT OF AGRICULTURE

Submission for OMB Review; Comment Request

July 15, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 19, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Conditions for Payment of Avian Influenza Indemnity Claims.

OMB Control Number: 0579-0440.

Summary of Collection: The Animal Health Protection Act of 2002 (7 U.S.C. 8301 et seq.) is the primary Federal law governing the protection of animal health. The law gives the Secretary of Agriculture broad authority to detect, control, or eradicate pests or diseases of livestock or poultry. The Secretary may also prohibit or restrict import or export of any animal or related material if necessary to prevent the spread of any livestock or poultry pest or disease. U.S. animal health policy calls for elimination of the avian influenza virus (both highly pathogenic and low pathogenicity strains) when found through depopulation (i.e., euthanasia and disposal) of affected poultry. The Animal and Plant Health Inspection Service (APHIS) works with State and local animal health officials to euthanize poultry, clean and disinfect premises and equipment, and test for elimination of the virus to ensure that farms can be safely restocked.

Need and Use of the Information: APHIS Veterinary Services assists State and local animal health officials and poultry producers with creating and applying biosecurity and response plans, developing and enforcing flock plans and compliance agreements, preparing and processing appraisal and indemnity claims and worksheets, developing restocking and testing agreements, and submitting reports.

Description of Respondents: State and local animal health officials and poultry producers.

Number of Respondents: 18,950.

Frequency of Responses: Reporting: On occasion.

Total Burden Hours: 48,714.

Ruth Brown,
Departmental Information Collection Clearance Officer.

[FR Doc. 2021-15359 Filed 7-19-21; 8:45 am]

BILLING CODE 3410-34-P